DEPARTMENT OF COMMERCE

National Oceanic and Atmospheric Administration

[I.D. 011107E]

Endangered and Threatened Species; Initiation of 5-year Reviews for Fin, Sperm and Southern Right Whales

AGENCY: National Marine Fisheries Service (NMFS), National Oceanic and Atmospheric Administration, Commerce.

ACTION: Notice of initiation of a 5-year review; request for information.

SUMMARY: The National Marine Fisheries Service (NMFS) announce 5-year reviews of the fin whale (Balaenoptera physalus), sperm whale (Physeter macrocephalus) and southern right whale (Eubalaena australis) under the Endangered Species Act of 1973 (ESA). A 5-year review is a periodic process conducted to ensure that the listing classification of a species is accurate. A 5-year review is based on the best scientific and commercial data available at the time of the review; therefore, we are requesting submission of any such information on the fin whale, sperm whale and southern right whale that has become available since their last status review in 1999 (Perry, S., D. DeMaster and G. Silber, 1999. The Great Whales: History and Status of Six Species Listed as Endangered Under the U.S. Endangered Species Act of 1973. Marine Fisheries Review. Department of Commerce 61:1). Based on the results of this 5-year review, we will make the requisite findings under the ESA.

DATES: To allow us adequate time to conduct these reviews, we must receive your information no later than March 23, 2007. However, we will continue to accept new information about any listed species at any time.

ADDRESSES: You may submit information by any of the following methods:

• Mail: Susan Pultz, National Marine Fisheries Service, 1315 East-West Highway #13661, Silver Spring, MD 20910.

• E-mail: whale.review@noaa.gov. Include in the subject line of the e-mail the following identifier: “Comments on 5-year review for the fin, sperm and southern right whales.”

• Fax: 301-427-2523, attention: Susan Pultz.

Information received in response to this notice and review will be available for public inspection, by appointment, during normal business hours, at the above address.

FOR FURTHER INFORMATION CONTACT: Susan Pultz at the above address, or at 301-713-1401 x116.

SUPPLEMENTARY INFORMATION: Under the ESA, a list of endangered and threatened wildlife and plant species must be maintained. The list is published at 50 CFR 17.11 (for animals) and 17.12 (for plants). Section 4(c)(2)(A) of the ESA requires that we conduct a review of listed species at least once every five years. On the basis of such reviews under section 4(c)(2)(B), we determine whether or not any species should be removed from the list (delisted), or reclassified from endangered to threatened, or from threatened to endangered. Delisting a species must be supported by the best scientific and commercial data available, substantiating that the species is neither endangered nor threatened for one or more of the following reasons: (1) The species is considered extinct; (2) the species is considered to be recovered; and/or (3) the original data available when the species was listed, or the interpretation of such data, were in error. Any change in Federal classification would require a separate rulemaking process. The regulations in 50 CFR 424.21 require that we publish a notice in the Federal Register announcing those species currently under active review. This notice announces active reviews of the fin whale, sperm whale and southern right whale, all currently listed as endangered.

Public Solicitation of New Information

To ensure that the 5-year reviews are complete and based on the best available scientific and commercial information, we are soliciting new information from the public, concerned governmental agencies, tribes, the scientific community, industry, environmental entities, and any other interested parties concerning the status of the fin whale, sperm whale and southern right whale.

Five-year reviews consider the best scientific and commercial data and all new information that has become available since the listing determination or most recent status review. Categories of requested information include (1) species biology including, but not limited to, population trends, distribution, abundance, demographics, and genetics; (2) habitat conditions including, but not limited to, amount, distribution, and suitability; (3) conservation measures that have been implemented that benefit the species; (4) status and trends of threats; and (5) other new information, data, or corrections including, but not limited to, taxonomic or nomenclatural changes, identification of erroneous information contained in the list, and improved analytical methods.

Because these species are vertebrate species, we will also be considering application of the Distinct Population Segment (DPS) policy for vertebrate taxa. A DPS is defined in the February 7, 1996, Policy Regarding the Recognition of Distinct Vertebrate Population Segments (61 FR 4722). For a population to be listed under the ESA as a DPS, three elements are considered: (1) The discreteness of the population segment in relation to the remainder of the species to which it belongs; (2) the significance of the population segment to the species to which it belongs; and (3) the population segment's conservation status in relation to the ESA's standards for listing (i.e., is the population segment endangered or threatened?). DPSs of vertebrate species, as well as subspecies of all listed species, may be proposed for separate reclassification or for removal from the list.

If you wish to provide information for any of these 5-year reviews, you may submit your information and materials to Susan Pultz (see ADDRESSES section). Our practice is to make submissions of information, including names and home addresses of respondents, available for public review during regular business hours. Respondents may request that we withhold a respondent's identity, as allowable by law. If you wish us to withhold your name or address, you must state this request prominently at the beginning of your submission. We will not, however, consider anonymous submissions. To the extent consistent with applicable law, we will make all submissions from organizations or businesses, and from individuals identifying themselves as representatives or officials of organizations or businesses, available for public inspection in their entirety. Information and materials received will be available for public inspection, by appointment, during normal business hours (see ADDRESSES section).

Authority: 16 U.S.C. 1531 et seq.

Dated: January 12, 2007.
Angela Somma,
Chief, Endangered Species Division, Office of Protected Resources, National Marine Fisheries Service.

[FR Doc. E7-752 Filed 1-19-07; 8:45 am]

BILLING CODE 3510-22-S